DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 19, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On November 19, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

As a result, the property and interests in property subject to U.S. jurisdiction of the following persons are blocked under the relevant sanctions authorities listed below.

Individuals

1. DIANA, Cristian, Isernia, Italy; DOB 03 Oct 1974; POB Isernia, Italy; nationality Italy; Gender Male; Passport E619547 (Italy) (individual) [ILLICIT-DRUGS-EO14059] (Linked To: STILE ITALIANO S.R.L.; Linked To: WINDROSE TACTICAL SOLUTIONS S.R.L.S.).

Designated pursuant to section 1(b)(ii) of E.O. 14059 for being or having been a leader or official of STILE ITALIANO S.R.L., a person whose property and interests in property are blocked pursuant to E.O. 14059.

Designated pursuant to section 1(b)(ii) of E.O. 14059 for being or having been a leader or official of WINDROSE TACTICAL SOLUTIONS S.R.L.S., a person whose property and interests in property are blocked pursuant to E.O. 14059.

2. FALLON, John Anthony, Colchester, Essex, United Kingdom; DOB 13 Jun 1962; nationality United Kingdom; Gender Male; Passport 108792196 (United Kingdom) (individual) [ILLICIT-DRUGS-EO14059] (Linked To: TMR LTD).

Designated pursuant to section 1(b)(iii) of E.O. 14059 for being owned, controlled, or directed by, or having acted or purported to act for or on behalf of, TMR LTD, a person whose property and interests in property are blocked pursuant to E.O. 14059.

3. ACUNA MACIAS, Daniela Alejandra, Jesus del Monte, Mexico, Mexico; DOB 07 Mar 2002; POB Barranquilla, Colombia; nationality Colombia; Gender Female; Passport AU672689 (Colombia); alt. Passport AW849837 (Colombia); Tarjeta de Identidad 1193598517 (Colombia) (individual) [ILLICIT-DRUGS-EO14059] (Linked To: WEDDING, Ryan James).

Designated pursuant to section 1(a)(ii)(A) of E.O. 14059 for having knowingly received property or interest in property that they know constitutes or is derived from proceeds of activities or transactions that have materially contributed to, or pose a significant risk of materially contributing to, the international proliferation of illicit drugs or their means of production.

4. CASTILLO MORENO, Miryam Andrea, Mexico; DOB 05 May 1991; POB Nuevo Leon, Mexico; nationality Mexico; Gender Female; C.U.R.P. CAMM910505MNLSRR09 (Mexico) (individual) [ILLICIT-DRUGS-EO14059] (Linked To: WEDDING, Ryan James).

Designated pursuant to section 1(b)(i)(B) of E.O. 14059 for having provided, or attempted to provide, financial, material, or technological support for, or goods or services in support of, Ryan James Wedding, a person whose property and interests in property are blocked pursuant to E.O. 14059.

5. PARADKAR, Deepak Balwant, Brampton, Ontario, Canada; Pickering, Ontario, Canada; DOB 28 Mar 1963; nationality Canada; Gender Male; Passport HP683566 (Canada) (individual) [ILLICIT-DRUGS-EO14059] (Linked To: WEDDING, Ryan James).

Designated pursuant to section 1(b)(i)(B) of E.O. 14059 for having provided, or attempted to provide, financial, material, or technological support for, or goods or services in support of, Ryan James Wedding, a person whose property and interests in property are blocked pursuant to E.O. 14059.

6. SOKOLOVSKI, Rolan, Maple, Ontario, Canada; DOB 01 Mar 1988; POB Lithuania; nationality Canada; Email Address deem1313@live.ca; Gender Male; Digital Currency Address—XBT 37fKFZQGMqdBkjSUub1jCDWGgSHwv9VxfZ; alt. Digital Currency Address—XBT 1JPqJ8sxLBvdHBqMqSFBmUkoh2vAuCUNvs; Digital Currency Address—ETH 0x5d5b5dafecbf31bdb08bfd3edad4f2694372d0ef; alt. Digital Currency Address—ETH 0xc103b7dc095c904b92081eef0c1640081ec01c10; alt. Digital Currency Address—ETH 0xe1e4c5e5ed8f03ae61b581e2def126025f2b9401; Phone Number 14163184394; Digital Currency Address—BNB bnb136ns6lfw4zs5hg4n85vdthaad7hq5m4gtkgf23; Digital Currency Address—TRX TCu5onCzXuqxjvVzdB2tR4FLuF66d4yRqf; alt. Digital Currency Address—TRX TBcLqqqyZjNj1ptuXFgj5H768NhNU5nDyn; Digital Currency Address—SOL 42RLPACwZPx3vYYmxSueqsogfynBDqXK298EDsNoyoHi; Passport P250404QS (Canada); Driver's License No. S6204-66508-80301 (Canada) (individual) [ILLICIT-DRUGS-EO14059] (Linked To: WEDDING, Ryan James).

Designated pursuant to section 1(b)(i)(B) of E.O. 14059 for having provided, or attempted to provide, financial, material, or technological support for, or goods or services in support of, Ryan James Wedding, a person whose property and interests in property are blocked pursuant to E.O. 14059.

7. TIEPOLO, Gianluca, Aviano, Italy; DOB 22 May 1975; nationality Italy; Gender Male; Passport YA6011337 (Italy); Tax ID No. TPLGLC75E22G888F (Italy) (individual) [ILLICIT-DRUGS-EO14059] (Linked To: WEDDING, Ryan James).

Designated pursuant to section 1(b)(i)(B) of E.O. 14059 for having provided, or attempted to provide, financial, material, or technological support for, or goods or services in support of, Ryan James Wedding, a person whose property and interests in property are blocked pursuant to E.O. 14059.

8. VALOYES FLOREZ, Carmen Yelinet, Polanco, Mexico City, Mexico; DOB 21 Nov 1977; nationality Colombia; alt. nationality Mexico; Gender Female; Passport AQ781120 (Colombia); C.U.R.P. VAFC771121MNELLR09 (Mexico) (individual) [ILLICIT-DRUGS-EO14059] (Linked To: WEDDING, Ryan James).

Designated pursuant to section 1(b)(i)(B) of E.O. 14059 for having provided, or attempted to provide, financial, material, or technological support for, or goods or services in support of, Ryan James Wedding, a person whose property and interests in property are blocked pursuant to E.O. 14059.

9. VAZQUEZ ALVARADO, Edgar Aaron, Mexico City, Mexico; DOB 14 Feb 1984; POB Mexico City, Mexico; nationality Mexico; Gender Male; Passport G22772181 (Mexico); C.U.R.P. VAAE840214HDFZLD02 (Mexico) (individual) [ILLICIT-DRUGS-EO14059] (Linked To: WEDDING, Ryan James).

Designated pursuant to section 1(b)(i)(B) of E.O. 14059 for having provided, or attempted to provide, financial, material, or technological support for, or goods or services in support of, Ryan James Wedding, a person whose property and interests in property are blocked pursuant to E.O. 14059.

10. WEDDING, Ryan James (a.k.a. “KING, James Conrad”), Mexico; DOB 14 Sep 1981; POB Thunder Bay, Ontario, Canada; nationality Canada; Gender Male; Digital Currency Address—TRX TAoLw5yD5XUoHWeBZRSZ1ExK9HMv2CiPvP; alt. Digital Currency Address—TRX TVNyvx2astt2AB1Us67ENjfMZeEXZeiuu6; alt. Digital Currency Address—TRX TPJ1JNX98MJpHueBJeF5SVSg85z8mYg1P1 (individual) [ILLICIT-DRUGS-EO14059].

Designated pursuant to section (1)(a)(i) of E.O. 14059 for having engaged in, or attempted to engage in, activities or transactions that have materially contributed to, or pose a significant risk of materially contributing to, the international proliferation of illicit drugs or their means of production.

Entities

1. 2351885 ONTARIO INC (a.k.a. DIAMOND TSAR), Thornhill, Ontario, Canada; Toronto, Ontario, Canada; Organization Established Date 29 Nov 2012; Organization Type: Manufacture of jewellery and related articles; Company Number 2351885 (Canada) [ILLICIT-DRUGS-EO14059] (Linked To: SOKOLOVSKI, Rolan).

Designated pursuant to section 1(b)(iii) of E.O. 14059 for being owned, controlled, or directed by, or having acted or purported to act for or on behalf of, Rolan Sokolovski, a person whose property and interests in property are blocked pursuant to E.O. 14059.

2. LMJ TRADING LTD, Colchester, Essex, United Kingdom; Organization Established Date 22 Aug 2019; Company Number 12170407 (United Kingdom) [ILLICIT-DRUGS-EO14059] (Linked To: FALLON, John Anthony).

Designated pursuant to section 1(b)(iii) of E.O. 14059 for being owned, controlled, or directed by, or having acted or purported to act for or on behalf of, John Anthony Fallon, a person whose property and interests in property are blocked pursuant to E.O. 14059.

3. MADE IN ITALY MOTORCYCLES LIMITED, Colchester, Essex, United Kingdom; website www.madeinitalymotorcycles.com; Organization Established Date 14 Aug 2009; Organization Type: Sale of motor vehicles; Company Number 06991327 (United Kingdom) [ILLICIT-DRUGS-EO14059] (Linked To: FALLON, John Anthony).

Designated pursuant to section 1(b)(iii) of E.O. 14059 for being owned, controlled, or directed by, or having acted or purported to act for or on behalf of, John Anthony Fallon, a person whose property and interests in property are blocked pursuant to E.O. 14059.

4. STILE ITALIANO S.R.L., Roveredo in Piano, Friuli-Venezia Giulia, Italy; website www.stileitaliano.com; Organization Established Date 09 Sep 1999; Italian Fiscal Code 01396460931 (Italy) [ILLICIT-DRUGS-EO14059] (Linked To: TIEPOLO, Gianluca).

Designated pursuant to section 1(b)(iii) of E.O. 14059 for being owned, controlled, or directed by, or having acted or purported to act for or on behalf of, Gianluca Tiepolo, a person whose property and interests in property are blocked pursuant to E.O. 14059.

5. TMR LTD, Colchester, Essex, United Kingdom; Organization Established Date 15 Jan 2014; Organization Type: Sale of motor vehicles; Company Number 08846757 (United Kingdom) [ILLICIT-DRUGS-EO14059] (Linked To: TIEPOLO, Gianluca).

Designated pursuant to section 1(b)(iii) of E.O. 14059 for being owned, controlled, or directed by, or having acted or purported to act for or on behalf of, Gianluca Tiepolo, a person whose property and interests in property are blocked pursuant to E.O. 14059.

6. WINDROSE TACTICAL SOLUTIONS S.R.L.S., Pordenone, Friuli-Venezia Giulia, Italy; Organization Established Date 04 Dec 2018; Italian Fiscal Code 01854740931 (Italy) [ILLICIT-DRUGS-EO14059] (Linked To: TIEPOLO, Gianluca).

Designated pursuant to section 1(b)(iii) of E.O. 14059 for being owned, controlled, or directed by, or having acted or purported to act for or on behalf of, Gianluca Tiepolo, a person whose property and interests in property are blocked pursuant to E.O. 14059.

7. GRUPO ARES IMPERIAL S. DE R.L. DE C.V., Mexico City, Mexico; Organization Established Date 04 Jun 2019; Organization Type: Private security activities; Folio Mercantil No. N-2019042918 (Mexico) [ILLICIT-DRUGS-EO14059] (Linked To: VAZQUEZ ALVARADO, Edgar Aaron).

Designated pursuant to section 1(b)(iii) of E.O. 14059 for being owned, controlled, or directed by, or having acted or purported to act for or on behalf of, Edgar Aaron Vazquez Alvarado, a person whose property and interests in property are blocked pursuant to E.O. 14059.

8. GRUPO RVG COMBUSTIBLES S.A. DE C.V., Atizapan de Zaragoza, Mexico, Mexico; Organization Established Date 15 Jul 2019; Organization Type: Wholesale of solid, liquid and gaseous fuels and related products; Folio Mercantil No. N-2019070177 (Mexico) [ILLICIT-DRUGS-EO14059] (Linked To: VAZQUEZ ALVARADO, Edgar Aaron).

Designated pursuant to section 1(b)(iii) of E.O. 14059 for being owned, controlled, or directed by, or having acted or purported to act for or on behalf of, Edgar Aaron Vazquez Alvarado, a person whose property and interests in property are blocked pursuant to E.O. 14059.

9. VRG ENERGETICOS S.A. DE C.V., Atizapan de Zaragoza, Mexico, Mexico; Organization Established Date 26 Jul 2019; Organization Type: Wholesale of solid, liquid and gaseous fuels and related products; Folio Mercantil No. N-2019067629 (Mexico) [ILLICIT-DRUGS-EO14059] (Linked To: VAZQUEZ ALVARADO, Edgar Aaron).

Designated pursuant to section 1(b)(iii) of E.O. 14059 for being owned, controlled, or directed by, or having acted or purported to act for or on behalf of, Edgar Aaron Vazquez Alvarado, a person whose property and interests in property are blocked pursuant to E.O. 14059.

Bradley T. Smith,
Director, Office of Foreign Assets Control.

[FR Doc. 2025-20708 Filed 11-21-25; 8:45 am]

BILLING CODE 4810-AL-P